POSTAL SERVICE

Temporary Emergency Committee of the Board of Governors; Sunshine Act Meeting

DATES AND TIMES: December 4, 2015, at 3:00 p.m.

PLACE: Washington, DC, via Teleconference.

STATUS: Committee Votes to Close December 4, 2015, Meeting: By vote on November 12, 2015, members of the Temporary Emergency Committee of the Board of Governors of the United States Postal Service voted unanimously to close to public observation a tentative meeting to be held on December 4, 2015, via teleconference. It was determined that the December 4, 2015, teleconference would be held should no new Governors be confirmed by the Senate in advance of the date. On December 1, 2015, the Committee determined that the teleconference was needed. The Committee determined that no earlier public notice was possible due to the uncertainty around the need for a meeting.

MATTERS TO BE CONSIDERED:

Friday, December 4, 2015, at 3:00 p.m.

1. Strategic Issues.

GENERAL COUNSEL CERTIFICATION: The General Counsel of the United States Postal Service has certified that the meeting may be closed under the Government in the Sunshine Act.

CONTACT PERSON FOR MORE INFORMATION: Requests for information about the meeting should be addressed to the Secretary of the Board, Julie S. Moore, at 202-268-4800.

Julie S. Moore,
Secretary, Board of Governors.

[FR Doc. 2015-31322 Filed 12-8-15; 4:15 pm]

BILLING CODE 7710-12-P